FEDERAL COMMUNICATIONS COMMISSION

Notice of Public Information Collection(s) Being Reviewed by the Federal Communications Commission, Comments Requested

October 13, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before December 20, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0062.

Title: Application for Authorization to Construct New or Make Changes in an Instructional Television Fixed Service and/or Response Station(s), or to Assign or Transfer Such Station(s).

Form No.: FCC Form 330.

Type of Review: Revision of a currently approved collection.

Respondents: Not-for-profit institutions, and state, local or tribal government.

Number of Respondents: 500.

Estimated Time per Response: 1 hour.

Frequency of Response: On occasion reporting requirement.

Total Annual Burden: 500 hours.

Total Annual Cost: $750,000.

Privacy Act Impact Assessment: Not applicable.

Needs and Uses: FCC Form 330 is used to apply for authority to construct a new or make changes in an Instructional Television Fixed Service (ITFS) or response station and low power relay station, or for consent to license assignment or transfer of control. Data is used by FCC staff to determine if an applicant is qualified and meets basic statutory requirements.

The Commission is now revising FCC Form 330 to request additional information to complete the Universal Licensing System (ULS) data elements since ITFS has been implemented into ULS. Additional information such as the licensee's e-mail address, fax number, type of applicant, contact's e-mail address and fax number will be added to this collection. There will also be clarification of data elements, instructions and corrections of mailing addresses and Web sites.

There are no changes to the estimated average burden and number of respondents.

Federal Communications Commission.
Marlene H. Dortch,
Secretary.

[FR Doc. 04-23454 Filed 10-19-04; 8:45 am]

BILLING CODE 6712-01-P